DEPARTMENT OF COMMERCE

National Oceanic and Atmospheric Administration

RIN 0648-XA426

Marine Mammals; Photography Permit Application No. 16360

AGENCY: National Marine Fisheries Service (NMFS), National Oceanic and Atmospheric Administration (NOAA), Commerce.

ACTION: Notice; receipt of application.

SUMMARY: Notice is hereby given that Oceanic Nature Film Productions (Responsible Party: Dietrich Paulmann), P.O. Box 301 722, Albany 0752, Auckland, New Zealand has applied in due form for a permit to conduct commercial/educational photography of cetaceans off Hawaii.

DATES: Written, telefaxed, or e-mail comments must be received on or before June 10, 2011.

ADDRESSES: The application and related documents are available for review upon written request or by appointment in the following offices:

Permits, Conservation and Education Division, Office of Protected Resources, NMFS, 1315 East-West Highway, Room 13705, Silver Spring, MD 20910; phone (301) 713-2289; fax (301) 713-0376; and Pacific Islands Region, NMFS, 1601 Kapiolani Blvd., Rm 1110, Honolulu, HI 96814-4700; phone (808) 944-2200; fax (808) 973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 16360.

FOR FURTHER INFORMATION CONTACT: Carrie Hubard or Laura Morse, (301) 713-2289.

SUPPLEMENTARY INFORMATION: The subject permit is requested under the authority of § 104(c)(6) of the Marine Mammal Protection Act of 1972, as amended (16 U.S.C. 1361 et seq.), the regulations governing the taking and importing of marine mammals (50 CFR part 216). Section 104(c)(6) provides for photography for educational or commercial purposes involving non-endangered and non-threatened marine mammals in the wild.

The applicant requests a four-month photography permit to film cetaceans in the waters off Kona, Hawaii. Using one or two sailing catamarans as a base, filmmakers would conduct surface and underwater photography. Additionally, a passive acoustic array would be towed to obtain marine mammal vocalizations. The applicant has identified 12 species of cetaceans that would be approached for filming. The permit would not authorize approaches of species listed as threatened or endangered. Up to 50 animals from each species may be harassed as a result of filming. Footage would be used in a feature film intended to educate the public about marine mammal conservation issues, as well as the importance of the Pacific islands to the oceans. Filming would occur over a four-month period in summer and fall 2011.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 5, 2011.
Tammy C. Adams,
Acting Chief, Permits, Conservation and Education Division, Office of Protected Resources, National Marine Fisheries Service.

[FR Doc. 2011-11566 Filed 5-10-11; 8:45 am]

BILLING CODE 3510-22-P